DEPARTMENT OF DEFENSE

Office of the Secretary

[Docket ID: DOD-2016-OS-0044]

Privacy Act of 1974; System of Records; Correction

AGENCY: Office of the Secretary of Defense, DoD.

ACTION: Notice to amend a System of Records; correction.

SUMMARY: On Wednesday, April 20, 2016 (81 FR 23279-23280), the Department of Defense published a notice titled Privacy Act of 1974; System of Records. Subsequent to the publication of the notice, DoD discovered an error in the SUPPLEMENTARY INFORMATION section. This notice corrects the error.

DATES: This correction is effective on April 27, 2016.

FOR FURTHER INFORMATION CONTACT: Aaron Siegel, 571-372-0488.

SUPPLEMENTARY INFORMATION: On page 23279, in the third column, in the SUPPLEMENTARY INFORMATION section, the sentence “The proposed deletion is not within the purview of subsection (r) of the Privacy Act of 1974 (5 U.S.C. 552a), as amended, which requires the submission of a new or altered system report” should read “The proposed amendment is not within the purview of subsection (r) of the Privacy Act of 1974 (5 U.S.C. 552a), as amended, which requires the submission of a new or altered system report.”

Dated: April 21, 2016.
Aaron Siegel,
Alternate OSD Federal Register Liaison Officer, Department of Defense.

[FR Doc. 2016-09712 Filed 4-26-16; 8:45 am]

BILLING CODE 5001-06-P